DEPARTMENT OF JUSTICE

Antitrust Division

Notice Pursuant to the National Cooperative Research and Production Act of 1993—SAE Consortium Ltd.

Notice is hereby given that, on September 27, 2007, pursuant to Section 6(a) of the National Cooperative Research and Production Act of 1993, 15 U.S.C. 4301 et seq. (“the Act”), SAE Consortium Ltd. (“SAEC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Abbott Laboratories, Abbott Park, IL; F. Hoffmann-La Roche, Inc., Basel, SWITZERLAND; Johnson & Johnson Pharmaceutical Research & Development, LLC, Raritan, NJ; Pfizer, Inc., New York, NY; Sanofi-Aventis, Bridgewater, NJ; SmithKline Beecham Corporation d/b/a GlaxoSmithKline, Research Triangle Park, NC; and Wyeth Pharmaceuticals Inc., Collegeville, PA. The SAEC's general area of planned activities is to carry out scientific research in the public interest, including research directed toward the discovery of DNA-variants that are clinically useful in understanding and predicting the risk of drug induced serious adverse events and similar scientific research, the results of which will then be made freely available to the public on a nondiscriminatory basis. The venture will enable SAEC to identify DNA-variants useful in understanding and predicting the risk of drug induced serious adverse events with shared financial risk and without the duplication of effort that would result from the work of individual members. As the research results are gathered, they will be placed in the public domain for use by the worldwide medical research community in identifying specific genes involved in causing serious adverse events, thereby facilitating downstream research and development of therapeutic diagnostic and pharmaceutical products.

Patricia A. Brink,
Deputy Director of Operations, Antitrust Division.

[FR Doc. 07-5554 Filed 11-06-07; 8:45 am]

BILLING CODE 4410-11-M